DEPARTMENT OF TRANSPORTATION

Federal Highway Administration

Environmental Impact Statement: Champaign County, OH

AGENCY: Federal Highway Administration (FHWA), DOT.

ACTION: Notice of intent.

SUMMARY: The FHWA is issuing this notice to advise the public that an Environmental Impact Statement may be prepared for a proposed transportation project in Champaign County, Ohio.

FOR FURTHER INFORMATION CONTACT: Mark L. Vonder Embse, Urban Programs Engineer, Federal Highway Administration, 200 North High Street, Room 328, Columbus, Ohio 43215, Telephone: (614) 280-6854.

SUPPLEMENTARY INFORMATION: The FHWA, in cooperation with the Ohio Department of Transportation, will prepare an Environmental Impact Statement (EIS) for a proposed improvement in the vicinity of the City of Urbana, Ohio, in the corridor of United States Route 68 (US-68). The project termini are approximately the Clark/Champaign County Line to the south and 1.5 miles south of the Champaign/Logan County Line to the north. The southern terminus overlaps with the recently-constructed final segment of the City of Springfield US-68 Bypass. The study area is approximately 14 miles in length.

The purpose and need of the project are to enhance access to highways in west-central Ohio, and improve roadway operations and safety in the City of Urbana. Alternatives under consideration include: (1) Taking no action; (2) constructing a new highway on new location; (3) and upgrading existing facilities. FHWA, ODOT, and local agencies will be invited to participate in defining the alternatives to be evaluated in the EIS, and any significant social, economic, or environmental issues related to the alternatives.

Letters describing the proposed action and soliciting comments will be sent to appropriate Federal, State, and local agencies and to private organizations and citizens who have previously expressed or are known to have interest in this proposal. A series of public meetings will be held in the project area. In addition, a public hearing will be held. Public notice will be given of the time and place of the meetings and hearing. The draft EIS will be available for public and agency review and comment prior to the public hearing. Scoping activities will be conducted.

To ensure that the full range of issues related to this proposed action are identified and addressed, comments and suggestions are invited from all interested parties. Comments or questions concerning this proposed action should be sent to the FHWA at the address provided above.

(Catalog of Federal Domestic Assistance Program Number 20.205, Highway Planning and Construction. The regulations implementing Executive Order 12372 regarding intergovernmental consultation on Federal programs and activities apply to this program)

Issued on: February 23, 2001.
Mark L. Vonder Embse,
Urban Programs Engineer, Federal Highway Administration, Columbus, Ohio.

[FR Doc. 01-5790 Filed 3-8-01; 8:45 am]

BILLING CODE 4910-22-P